Title 3—

The President

Proclamation 7873 of March 4, 2005

Irish-American Heritage Month, 2005

By the President of the United States of America

A Proclamation

The story of the Irish in America is an important part of the history of our country. This month, we pay tribute to Americans of Irish descent who have shaped our Nation and influenced American life.

Long before the great wave of Irish immigration in the 1840s, people of Irish ancestry were defining and defending our Nation. Charles Thomson, an Irishman by birth, served as Secretary of the Continental Congress and helped design the Great Seal of the United States. Irish-born Commodore John Barry fought for our country's independence and later helped found the United States Navy.

Irish Americans have been leaders in our public life, and they have retained a proud reverence for their heritage. In June 1963, President John F. Kennedy spoke to the Parliament in Dublin and told the story of the Irish Brigade, a regiment that fought valiantly for the Union and suffered terrible losses during the Civil War. Two decades after President Kennedy's visit, President Ronald Reagan returned to his great-grandfather's hometown in County Tipperary, Ireland, and greeted the crowd in their own Irish language.

The industry, talent, and imagination of Irish Americans have enriched our commerce and our culture. Their strong record of public service has fortified our democracy. Their strong ties to family, faith, and community have strengthened our Nation's character. The Irish are a significant reason why Americans will always be proud to call ourselves a Nation of immigrants.

NOW, THEREFORE, I, GEORGE W. BUSH, President of the United States of America, by virtue of the authority vested in me by the Constitution and laws of the United States, do hereby proclaim March 2005 as Irish-American Heritage Month. I call upon all Americans to observe this month by celebrating the contributions of Irish Americans to our Nation.

IN WITNESS WHEREOF, I have hereunto set my hand this fourth day of March, in the year of our Lord two thousand five, and of the Independence of the United States of America the two hundred and twenty-ninth.

B

[FR Doc. 05-4756

Filed 3-8-05; 8:45 am]

Billing code 3195-01-P